ENVIRONMENTAL PROTECTION AGENCY

40 CFR Part 52

[EPA-R04-OAR-2006-0577-200624(b); FRL-8248-8]

Approval and Promulgation of Implementation Plans; Georgia: Removal of Douglas County Transportation Control Measure

AGENCY: Environmental Protection Agency (EPA).

ACTION: Proposed rule.

SUMMARY: On September 19, 2006, the State of Georgia's Department of Natural Resources, through the Georgia Environmental Protection Division (GA EPD), submitted a final State Implementation Plan (SIP) revision to remove the transportation control measure (TCM) related to a compressed natural gas refueling station/park and ride transportation center project in Douglas County, Georgia. This TCM was originally submitted by GA EPD for inclusion into the Atlanta portion of the Georgia SIP on August 29, 1997. EPA approved this TCM into the Georgia SIP through direct final rulemaking published in the Federal Register on June 24, 1998 (effective on August 10, 1998). Subsequently, the project sponsor determined that the equipment necessary to implement this project is no longer available, and thus, this TCM cannot be implemented as originally anticipated. No SIP credit was claimed for this program, nor were emission benefits ever realized for this TCM because it was never implemented. Through this rulemaking, EPA is proposing to approve the removal of this TCM from the Atlanta portion of the Georgia SIP because this SIP revision meets Clean Air Act requirements. In the Final Rules Section of this Federal Register, EPA is approving the State's SIP revision as a direct final rule without prior proposal because the Agency views this as a noncontroversial submittal and anticipates no adverse comments. A detailed rationale for the approval is set forth in the direct final rule. If no significant, material, and adverse comments are received in response to this rule, no further activity is contemplated. If EPA receives adverse comments, the direct final rule will be withdrawn and all public comments received will be addressed in a subsequent final rule based on this proposed rule. EPA will not institute a second comment period on this document. Any parties interested in commenting on this document should do so at this time.

DATES: Written comments must be received on or before December 28, 2006.

ADDRESSES: Submit your comments, identified by Docket ID No. “EPA-R04-OAR-2006-0577”, by one of the following methods:

1. www.regulations.gov: Follow the on-line instructions for submitting comments.

2. E-mail: Benjamin.lynorae@epa.gov.

3. Fax: (404) 562-9019.

4. Mail: “EPA-R04-OAR-2006-0577,” Air Quality Modeling and Transportation Section, Air Planning Branch, Air, Pesticides and Toxics Management Division, U.S. Environmental Protection Agency, Region 4, 61 Forsyth Street, SW., Atlanta, Georgia 30303-8960.

5. Hand Delivery or Courier: Lynorae Benjamin, Air Quality Modeling and Transportation Section, Air Planning Branch, Air, Pesticides and Toxics Management Division, U.S. Environmental Protection Agency, Region 4, 61 Forsyth Street, SW., Atlanta, Georgia 30303-8960. Such deliveries are only accepted during the Regional Office's normal hours of operation. The Regional Office's official hours of business are Monday through Friday, 8:30 to 4:30, excluding Federal holidays.

Please see the direct final rule which is located in the Rules section of this Federal Register for detailed instructions on how to submit comments.

FOR FURTHER INFORMATION CONTACT: Lynorae Benjamin, Air Quality Modeling and Transportation Section, Air Planning Branch, Air, Pesticides and Toxics Management Division, U.S. Environmental Protection Agency, Region 4, 61 Forsyth Street, SW., Atlanta, Georgia 30303-8960. The telephone number is (404) 562-9040. Ms. Benjamin can also be reached via electronic mail at Benjamin.lynorae@epa.gov.

SUPPLEMENTARY INFORMATION: For additional information see the direct final rule which is published in the Rules section of this Federal Register.

Dated: November 13, 2006.
A. Stanley Meiburg,
Acting Regional Administrator, Region 4.

[FR Doc. E6-20140 Filed 11-27-06; 8:45 am]

BILLING CODE 6560-50-P